DEPARTMENT OF COMMERCE

National Oceanic and Atmospheric Administration

RIN 0648-XE597

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold a meeting of its Commonwealth of the Northern Mariana Islands (CNMI) Mariana Archipelago Advisory Panel (AP) and its Guam Mariana Archipelago AP to discuss and make recommendations on issues in Guam, CNMI and the Western Pacific region.

DATES: The CNMI AP meeting will be held on Wednesday, May 18, 2016, between 6:30 p.m. and 9 p.m. The Guam AP meeting will be held on Friday, May 20, 2016, between 6 p.m. and 9 p.m. All times listed are local times. For agendas, see SUPPLEMENTARY INFORMATION.

ADDRESSES: The CNMI AP meeting will be held at the CNMI Division of Fish & Wildlife Conference Room, Lower Base, Saipan, MP, 96950 and the Guam AP meeting will be held at the Hilton Guam Resort & Spa, 202 Hilton Road, Tumon Bay, GU 96913.

FOR FURTHER INFORMATION CONTACT: Kitty M. Simonds, Executive Director, phone: (808) 522-8220.

SUPPLEMENTARY INFORMATION: Public comment periods will be provided throughout the agendas. The order in which agenda items are addressed may change. The meetings will run as late as necessary to complete scheduled business.

Agenda for the CNMI AP Meeting

Wednesday, May 18, 2016, 6:30 p.m.-9 p.m.

1. Welcome and Introductions

2. Report on Changes to the Pelagic and Archipelagic Annual Fisheries Reports

3. Review of Annual Report Fishery Performance Information

A. Bottomfish

B. Coral Reef

C. Crustaceans

D. Precious Corals

E. Pelagics

4. Review of Annual Report Ecosystem Considerations Information and Data Gaps

A. Habitat

B. Protected Species

C. Human Dimensions

D. Climate Variables

E. Marine Planning

F. Data Integration

5. Report on FEP Implementation Activities

6. Public Comment

7. Discussion and Recommendations

Agenda for the Guam AP Meeting

Friday, May 20, 2016, 6 p.m.-9 p.m.

1. Welcome and Introductions

2. Report on Changes to the Pelagic and Archipelagic Annual Fisheries Reports

3. Review of Annual Report Fishery Performance Information

A. Bottomfish

B. Coral Reef

C. Crustaceans

D. Precious Corals

E. Pelagics

4. Review of Annual Report Ecosystem Considerations Information and Data Gaps

A. Habitat

B. Protected Species

C. Human Dimensions

D. Climate Variables

E. Marine Planning

F. Data Integration

5. Report on FEP Implementation Activities

6. Public Comment

7. Discussion and Recommendations

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 26, 2016.
Jeffrey N. Lonergan,
Acting Deputy Director, Office of Sustainable Fisheries, National Marine Fisheries Service.

[FR Doc. 2016-10073 Filed 4-28-16; 8:45 am]

BILLING CODE 3510-22-P